DEPARTMENT OF TRANSPORTATION

Federal Motor Carrier Safety Administration

[Docket No. FMCSA-2007-0069]

Electronic Signatures on Documents: Verigo, Incorporated (Verigo), Application for Exemption

AGENCY: Federal Motor Carrier Safety Administration (FMCSA), DOT.

ACTION: Notice of application for exemption; request for comments.

SUMMARY: The FMCSA announces that it has received from Verigo, Incorporated (Verigo) an application for an exemption from the signature requirement for a driver on the record of duty status (RODS). Verigo's application is being made on behalf of all drivers and carriers operating commercial motor vehicles in the U.S. and using the Verigo Wireless Logbook. The exemption would allow a signature entered on an electronic “signature pad” to be the functional equivalent of a handwritten signature on the RODS. Verigo states that this will allow the trucking industry to reduce administrative costs and increase productivity by providing a simple and effective alternative to paper RODS. The FMCSA requests public comment on Verigo's application for exemption.

DATES: Comments must be received on or before December 31, 2007.

ADDRESSES: You may submit comments identified by Federal Docket Management System Number FMCSA-2007-0069 by any of the following methods:

• Web Site: http://www.regulations.gov. Follow the instructions for submitting comments on the Federal electronic docket site.

• Fax: 1-202-493-2251.

• Mail: Docket Management Facility, U.S. Department of Transportation, Room W12-140, 1200 New Jersey Avenue, SE., Washington, DC 20590-0001.

• Hand Delivery: Ground Floor, Room W12-140, DOT Building, 1200 New Jersey Avenue, SE., Washington, DC, between 9 a.m. and 5 p.m. e.t., Monday through Friday, except Federal holidays.

Instructions: All submissions must include the Agency name and docket number. For detailed instructions on submitting comments and additional information on the exemption process, see the Public Participation heading below. Note that all comments received will be posted without change to http://www.regulations.gov, including any personal information provided. Please see the Privacy Act heading below.

Docket: For access to the docket to read background documents or comments received, go to http://www.regulations.gov at any time or to the ground floor, room W12-140, DOT Building, New Jersey Avenue, SE., Washington, DC, between 9 a.m. and 5 p.m. e.t., Monday through Friday, except Federal holidays.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78) or you may visit http://www.regulations.gov.

Public participation: The http://www.regulations.gov Web site is generally available 24 hours each day, 365 days each year. You can get electronic submission and retrieval help and guidelines under the “help” section of the http://www.regulations.gov Web site and also at the DOT's http://docketsinfo.dot.gov Web site. If you want us to notify you that we received your comments, please include a self-addressed, stamped envelope or postcard or print the acknowledgement page that appears after submitting comments online.

FOR FURTHER INFORMATION CONTACT: Mr. Richard Clemente, Transportation Specialist, FMCSA Driver and Carrier Operations Division, Office of Bus and Truck Standards and Operations. Telephone: 202-366-4325. E-mail: MCPSD@fmcsa.dot.gov.

SUPPLEMENTARY INFORMATION:

Background

Section 4007 of the Transportation Equity Act for the 21st Century (Pub. L. 105-178, 112 Stat. 107, June 9, 1998) amended 49 U.S.C. 31315 and 31136(e) to provide authority to grant exemptions from motor carrier safety regulations. Under its regulations, FMCSA must publish a notice of each exemption request in the Federal Register (49 CFR 381.315(a)). The Agency must provide the public an opportunity to inspect the information relevant to the application, including the conducting of any safety analyses. The Agency must also provide an opportunity for public comment on the request.

The Agency reviews the safety analyses and the public comments and determines whether granting the exemption would likely achieve a level of safety equivalent to, or greater than, the level that would be achieved by the current regulation (49 CFR 381.305). The decision of the Agency must be published in the Federal Register (49 CFR 381.315(b)) with the reason for denying, or, in the alternative, the specific person or class of persons receiving, the exemption, and the regulatory provision or provisions from which exemption is granted. The notice must also specify the effective period of the exemption (up to 2 years), and explain the terms and conditions of the exemption. The exemption may be renewed (49 CFR 381.300(b)).

Request for Exemption

Verigo, a software developer headquartered in Edmonton, Alberta, Canada, manufactures a wireless record-of-duty-status (RODS) (“logbook”) and trip-inspection report system that is currently used by Canadian motor carriers and drivers. This system uses a software program operating on a “pocket-PC” cellular telephone with a touch screen, which, according to Verigo, provides a very simple method for drivers to create the RODS. Verigo states that this system reduces the driver and motor carrier compliance “burden” of the hours of service (HOS) regulations by automating five of the six manual RODS processes, as drivers are only required to make simple touch screen entries to complete each step. The software program makes all calculations, provides an onscreen display that meets the requirements for roadside inspectors, and e-mails a copy of the driver's daily RODS to the motor carrier or any other person authorized by the driver to receive a copy. The Wireless Logbook System includes an automatic change-over feature between Canadian and U.S. HOS rules when the driver makes a border-crossing entry.

Verigo is applying for a 2-year exemption from 49 CFR 395.8(f)(2). This section requires entries made by the driver on the RODS to be legible and in the driver's own handwriting. Verigo is requesting the exemption for all users of their Verigo Wireless Logbook. The total number of units to be operated under the exemption is unknown as they are a service provider for an indeterminate number of motor carriers with various fleet sizes.

Verigo requests the exemption from the requirement to print and sign the daily RODS by accepting either an on-screen display or an e-mail or fax copy of the document, all of which have been certified by capturing the driver's own handwriting on the signature pad that is embedded in the “pocket PC” device. The touch screen—with an embedded signature pad—allows the driver to sign each RODS in his or her own handwriting. The device also allows inspectors and enforcement officers to view up to 14 previous days' RODS, or to obtain printed copies at the roadside via e-mail.

Verigo believes that the requested exemption is administrative in nature and does not affect the limits on driving time and on-duty time. An equivalent or greater level of safety would be achieved by using the device because of its ability to simplify and encourage regulatory compliance. According to Verigo, the wireless logbook deters falsification. The time-line on the grid sheet is plotted by the software program, and once the driver has selected a duty status, all time spent doing that task is recorded and stored. The driver may edit the record, but the time of the original data entry and all modifications are recorded and cannot be changed. This results in a “dual data stream” of original and modified entries that can be displayed on the screen. Modifications to entries are not permitted after the RODS is signed. New information may be added to the RODS after the signature time-stamp, but it must be signed before it can be sent to the server for distribution to the motor carrier or the roadside inspector. Verigo states that its logbook program replicates and automates all of the functions of paper RODS. The program provides a significantly higher and faster level of information feedback, which allows drivers and dispatchers to proactively plan trips in advance of commencing them and to make adjustments to trips as unplanned events that impact the driver's work schedule occur.

According to Verigo, if its application for exemption is denied, the trucking industry will lose an opportunity to become more efficient and cost-effective in complying with the HOS regulations. The use of Verigo's technological solution will allow the industry to reduce administrative costs and increase productivity by providing a simple and effective alternative to paper RODS. Verigo therefore requests that an exemption be granted for a period of 2 years, with the possibility of renewal. A copy of Verigo's exemption application is in the docket identified at the beginning of this notice.

Request for Comments

In accordance with 49 U.S.C. 31315(b)(4) and 31136(e), FMCSA requests public comment on Verigo's application for an exemption. The Agency will consider all comments received by close of business on December 31, 2007. Comments will be available for examination in the docket at the location listed under the “Addresses” section of this notice. The Agency will file comments received after the comment closing date in the public docket, and will consider them to the extent practicable.

Issued on: November 26, 2007.
Larry W. Minor,
Associate Administrator for Policy and Program Development.

[FR Doc. E7-23245 Filed 11-29-07; 8:45 am]

BILLING CODE 4910-EX-P